Executive Order 13309 of July 25, 2003

Amendments to Executive Order 12994, and Renaming the President's Committee on Mental Retardation as the President's Committee for People with Intellectual Disabilities

By the authority vested in me as President by the Constitution and the laws of the United States of America, and in order to change the name of the “President's Committee on Mental Retardation” to the “President's Committee for People with Intellectual Disabilities” (the “Committee”) and expand the membership of the Committee, it is hereby ordered as follows:

Section 1. The President's Committee on Mental Retardation is hereby renamed the President's Committee for People with Intellectual Disabilities.

Sec. 2. Executive Order 12994 of March 21, 1996, is hereby amended by deleting the words “mental retardation” and inserting the words “intellectual disabilities” in lieu thereof throughout the text of that order, except in the title, the first line of the preamble, and section 1 of that order.

Sec. 3. Section 1 of Executive Order 12994 is amended by deleting the words “(the “Committee”)” and adding after “responsibilities,” the words “and renamed the President's Committee for People with Intellectual Disabilities (the “Committee”),”.

Sec. 4. Section 2 of Executive Order 12994 is amended by inserting after “(5) The Secretary of Housing and Urban Development;” the following: “(6) The Secretary of Commerce; (7) The Secretary of Transportation; (8) The Secretary of the Interior; (9) The Secretary of Homeland Security;” and renumbering former subsections (6) through (9) as subsections (10) through (13).

Sec. 5. The Committee is continued until September 30, 2005.

B

THE WHITE HOUSE,

July 25, 2003.

[FR Doc. 03-19572

Filed 7-29-03; 8:57 am]

Billing code 3195-01-P